DEPARTMENT OF TRANSPORTATION

Federal Aviation Administration

14 CFR Part 39

[Docket No. FAA-2023-2139; Project Identifier MCAI-2023-00435-T; Amendment 39-22713; AD 2024-06-08]

RIN 2120-AA64

Airworthiness Directives; Bombardier, Inc., Airplanes

AGENCY: Federal Aviation Administration (FAA), DOT.

ACTION: Final rule.

SUMMARY: The FAA is adopting a new airworthiness directive (AD) for certain Bombardier, Inc., Model BD-700-2A12 airplanes. This AD was prompted by reports from the supplier that some overheat detection sensing elements of the bleed air leak detection system were manufactured with insufficient salt fill, which can result in an inability to detect hot bleed air leaks. This AD requires maintenance records verification, and if an affected part is installed, prohibits the use of certain Master Minimum Equipment List (MMEL) items under certain conditions by requiring revising the operator's existing Minimum Equipment List (MEL). This AD also requires testing the overheat detection sensing elements, marking each serviceable sensing element with a witness mark, and replacing each nonserviceable part with a serviceable part. This AD also prohibits the installation of affected parts under certain conditions. The FAA is issuing this AD to address the unsafe condition on these products.

DATES: This AD is effective June 5, 2024.

The Director of the Federal Register approved the incorporation by reference of certain publications listed in this AD as of June 5, 2024.

ADDRESSES:

AD Docket: You may examine the AD docket at regulations.gov under Docket No. FAA-2023-2139; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For Bombardier service information identified in this final rule, contact Bombardier Business Aircraft Customer Response Center, 400 Côte-Vertu Road West, Dorval, Québec H4S 1Y9, Canada; telephone 514-855-2999; email: ac.yul@aero.bombardier.com; website: bombardier.com.

• For Liebherr-Aerospace Toulouse SAS service information identified in this final rule, contact Liebherr-Aerospace Toulouse SAS, 408, Avenue des Etats-Unis—B.P.52010, 31016 Toulouse Cedex, France; telephone +33 (0)5.61.35.28.28; fax +33 (0)5.61.35.29.29; email: techpub.toulouse@liebherr.com; website: www.liebherr.aero.

• You may view this service information at the FAA, Airworthiness Products Section, Operational Safety Branch, 2200 South 216th Street, Des Moines, WA. For information on the availability of this material at the FAA, call 206-231-3195. It is also available in the AD docket at regulations.gov under Docket No. FAA-2023-2139.

FOR FURTHER INFORMATION CONTACT: Steven Dzierzynski, Aviation Safety Engineer, FAA, 1600 Stewart Avenue, Suite 410, Westbury, NY 11590; telephone: 516-228-7300; email: 9-avs-nyaco-cos@faa.gov.

SUPPLEMENTARY INFORMATION:

Background

The FAA issued a notice of proposed rulemaking (NPRM) to amend 14 CFR part 39 by adding an AD that would apply to certain Bombardier, Inc., Model BD-700-2A12 airplanes. The NPRM published in the Federal Register on November 8, 2023 (88 FR 77044). The NPRM was prompted by AD CF-2023-18, dated March 9, 2023, issued by Transport Canada, which is the aviation authority for Canada (Transport Canada AD CF-2023-18) (also referred to as the MCAI). The MCAI states that Bombardier received reports from the supplier of the overheat detection sensing elements of a manufacturing quality escape. Some of the sensing elements of the bleed air leak detection system were manufactured with insufficient salt fill. This condition can result in an inability to detect hot bleed air leaks, which can cause damage to surrounding structures and systems and prevent continued safe flight and landing.

In the NPRM, the FAA proposed to require maintenance records verification, and if an affected part is installed, prohibit the use of certain MMEL items under certain conditions by requiring revising the operator's existing MEL. The NPRM also proposed to require testing the overheat detection sensing elements, marking each serviceable sensing element with a witness mark, and replacing each nonserviceable part with a serviceable part. The NPRM also proposed to prohibit the installation of affected parts under certain conditions. The FAA is issuing this AD to address the unsafe condition on these products.

You may examine the MCAI in the AD docket at regulations.gov under Docket No. FAA-2023-2139.

Discussion of Final Airworthiness Directive

Comments

The FAA received a comment from NetJets. The following presents the comment received on the NPRM and the FAA's response to the comment.

Request for Clarification on Location of Date of Manufacture

NetJets requested a statement be added to paragraph (h) of the proposed AD indicating that the date of manufacture can be found in the aircraft maintenance logbook, in addition to the identification plate of the airplane on certain airplanes. This information is stated in Transport Canada AD CF-2023-18, Part II, paragraph A. NetJets further stated that Bombardier no longer stamps a date on the airframe data plate.

The FAA agrees the date of manufacture can be found either on the identification plate of certain airplanes or in the aircraft maintenance logbook. The FAA has amended paragraph (h) of this AD to specify the two locations where the date of manufacture can be found.

Conclusion

This product has been approved by the aviation authority of another country and is approved for operation in the United States. Pursuant to the FAA's bilateral agreement with this State of Design Authority, it has notified the FAA of the unsafe condition described in the MCAI referenced above. The FAA reviewed the relevant data, considered the comment received, and determined that air safety requires adopting this AD as proposed. Accordingly, the FAA is issuing this AD to address the unsafe condition on this product. Except for minor editorial changes, and any other changes described previously, this AD is adopted as proposed in the NPRM. None of the changes will increase the economic burden on any operator.

Related Service Information Under 1 CFR Part 51

The FAA reviewed Liebherr Service Bulletin CFD-F1958-26-01, dated May 6, 2022, which specifies part numbers for affected sensing elements.

The FAA reviewed Bombardier Service Bulletin 700-36-7503, dated December 23, 2022, which specifies procedures for testing each leak detection loop (LDL) sensing element installed on the airplane, marking each serviceable sensing element with a witness mark, and replacing each nonserviceable part with a serviceable part.

This service information is reasonably available because the interested parties have access to it through their normal course of business or by the means identified in the ADDRESSES section.

Costs of Compliance

The FAA estimates that this AD affects 19 airplanes of U.S. registry. The FAA estimates the following costs to comply with this AD:

Estimated Costs for Required Actions
Labor cost | Parts cost | Cost per product | Cost on U.S. operators
Up to 214 work-hours × $85 per hour = Up to $18,190 | $0 | Up to $18,190 | Up to $345,610.

The FAA has received no definitive data on which to base the cost estimates for the on-condition actions specified in this AD. The FAA estimates it takes up to 1.5 hours to replace a sensing element.

The FAA has included all known costs in its cost estimate. According to the manufacturer, however, some or all of the costs of this AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2024-06-08 Bombardier, Inc.: Amendment 39-22713; Docket No. FAA-2023-2139; Project Identifier MCAI-2023-00435-T.

(a) Effective Date

This airworthiness directive (AD) is effective June 5, 2024.

(b) Affected ADs

None.

(c) Applicability

This AD applies to Bombardier, Inc., Model BD-700-2A12 airplanes, certificated in any category, having serial numbers 70005 and subsequent.

(d) Subject

Air Transport Association (ATA) of America Code: 36, Pneumatic.

(e) Unsafe Condition

This AD was prompted by reports that some overheat detection sensing elements of the bleed air leak detection system were manufactured with insufficient salt fill. The FAA is issuing this AD to address non-conforming sensing elements of the bleed air leak detection system. The unsafe condition, if not addressed, could result in an inability to detect hot bleed air leaks and consequent damage to surrounding structures and systems, which could prevent continued safe flight and landing.

(f) Compliance

Comply with this AD within the compliance times specified, unless already done.

(g) Definitions

For the purpose of this AD, the definitions specified in paragraphs (g)(1) and (2) of this AD apply.

(1) An affected part is a sensing element marked with a date code before A2105 and having an LTS/Kidde part number specified in Liebherr Service Bulletin CFD-F1958-26-01, dated May 6, 2022, unless that sensing element meets the criteria specified in paragraph (g)(1)(i) or (ii) of this AD.

(i) The sensing element has been tested as specified in Section 3 of the Accomplishment Instructions of Kidde Aerospace and Defense Service Bulletin CFD-26-1, Revision 6, dated February 28, 2022, or earlier revisions, and has been found to be serviceable; and the sensing element has been marked on one face of its connector hex nut and packaged as specified in Section 3.C. of the Accomplishment Instructions of Kidde Aerospace and Defense Service Bulletin CFD-26-1, Revision 6, dated February 28, 2022, or earlier revisions.

(ii) The sensing element has been tested and found to be serviceable as specified in paragraph (j) of this AD; and the sensing element has been marked on one face of one connector hex nut with one green mark, as specified in Figure 33 of Bombardier Service Bulletin 700-36-7503, dated December 23, 2022, as applicable (the figure is representative for all sensing elements).

(2) A serviceable part is a sensing element that is not an affected part.

(h) Maintenance Records Verification

For airplane serial numbers 70097 and subsequent whose airplane date of manufacture, as identified on the identification plate of the airplane or in the aircraft maintenance logbook, is on or before the effective date of this AD: Within 60 days after the effective date of this AD, examine the airplane maintenance records to verify whether any affected part has been installed since the airplane date of manufacture, as identified on the identification plate of the airplane or in the aircraft maintenance logbook.

(1) If the maintenance records confirms that an affected part has been installed, or if it cannot be confirmed that an affected part has not been installed, paragraphs (i) and (j) of this AD must be complied with within the compliance time specified in paragraphs (i) and (j) of this AD.

(2) If the maintenance records confirm that no affected parts have been installed since airplane date of manufacture, then paragraphs (i) and (j) of this AD are not applicable.

(i) Minimum Equipment List (MEL) Revision

For all airplanes: Within 90 days after the effective date of this AD, revise the operator's existing MEL by incorporating the information specified in figures 1 through 7 to paragraph (i) of this AD, as applicable. This may be done by inserting a copy of this information into the operator's existing MEL.

Figure 1 to Paragraph (i)—MMEL Item 21-0425

BILLING CODE 4910-13-P

Figure 2 to Paragraph (ii)—MMEL Item 30-0055

Figure 3 to Paragraph (i)—MMEL Item 30-0060

Figure 4 to Paragraph (i)—MMEL Item 30-0090

Figure 5 to Paragraph (i)—MMEL Item 30-0095

Figure 6 to Paragraph (i)—MMEL Item 36-0050

Figure 7 to Paragraph (i)—MMEL Item 36-0105

BILLING CODE 4910-13-C

(j) Testing and Replacement of Affected Overheat Detection Sensing Elements

For airplane serial numbers 70005 and subsequent: Within 3,500 flight hours or 120 months, whichever occurs first, from the effective date of this AD, test the overheat detection sensing elements to determine if they are serviceable, in accordance with the Accomplishment Instructions of Bombardier Service Bulletin 700-36-7503, dated December 23, 2022.

(1) For each sensing element that is serviceable, before further flight, mark the sensing element with a witness mark in accordance with the Accomplishment Instructions of Bombardier Service Bulletin 700-36-7503, dated December 23, 2022.

(2) For each sensing element that is not serviceable, before further flight, replace the sensing element with a serviceable part in accordance with the Accomplishment Instructions of Bombardier Service Bulletin 700-36-7503, dated December 23, 2022.

(k) Parts Installation Prohibition

As of the effective date of this AD, no person may install, on any airplane, any affected part unless it is a serviceable part.

(l) No Reporting Requirement

Although Bombardier Service Bulletin 700-36-7503, dated December 23, 2022, specifies to submit certain information to the manufacturer, this AD does not include that requirement.

(m) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the manager of the International Validation Branch, mail it to ATTN: Program Manager, Continuing Operational Safety, at the address identified in paragraph (n)(2) of this AD or email to: 9-avs-nyaco-cos@faa.gov. If mailing information, also submit information by email. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or Transport Canada; or Bombardier, Inc.'s Transport Canada Design Approval Organization (DAO). If approved by the DAO, the approval must include the DAO-authorized signature.

(n) Additional Information

(1) Refer to Transport Canada AD CF-2023-18, dated March 9, 2023, for related information. This Transport Canada AD may be found in the AD docket at regulations.gov under Docket No. FAA-2023-2139.

(2) For more information about this AD, contact Steven Dzierzynski, Aviation Safety Engineer, FAA, 1600 Stewart Avenue, Suite 410, Westbury, NY 11590; telephone 516-228-7300; email: 9-avs-nyaco-cos@faa.gov.

(o) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Bombardier Service Bulletin 700-36-7503, dated December 23, 2022.

(ii) Liebherr Service Bulletin CFD-F1958-26-01, dated May 6, 2022.

(3) For Bombardier service information identified in this AD, contact Bombardier Business Aircraft Customer Response Center, 400 Côte-Vertu Road West, Dorval, Québec H4S 1Y9, Canada; telephone 514-855-2999; email: ac.yul@aero.bombardier.com; website: bombardier.com.

(4) For Liebherr-Aerospace Toulouse SAS service information identified in this AD, contact Liebherr-Aerospace Toulouse SAS, 408, Avenue des Etats-Unis—B.P.52010, 31016 Toulouse Cedex, France; telephone +33 (0)5.61.35.28.28; fax +33 (0)5.61.35.29.29; email: techpub.toulouse@liebherr.com; website: www.liebherr.aero.

(5) You may view this service information at the FAA, Airworthiness Products Section, Operational Safety Branch, 2200 South 216th Street, Des Moines, WA. For information on the availability of this material at the FAA, call 206-231-3195.

(6) You may view this material at the National Archives and Records Administration (NARA). For information on the availability of this material at NARA, visit www.archives.gov/federal-register/cfr/ibr-locations or email fr.inspection@nara.gov.

Issued on March 18, 2024.
Victor Wicklund,
Deputy Director, Compliance & Airworthiness Division, Aircraft Certification Service.

[FR Doc. 2024-09341 Filed 4-30-24; 8:45 am]

BILLING CODE 4910-13-P